DEPARTMENT OF HOMELAND SECURITY

Federal Emergency Management Agency

Agency Information Collection Activities: Proposed Collection; Comment Request

AGENCY: Federal Emergency Management Agency, Department of Homeland Security.

ACTION: Notice and request for comments.

SUMMARY: The Federal Emergency Management Agency, as part of its continuing effort to reduce paperwork and respondent burden, invites the general public and other Federal agencies to take this opportunity to comment on a proposed continuing information collection. In accordance with the Paperwork Reduction Act of 1995, this notice seeks comments on the cancellation of Federal assistance loans to any local government.

SUPPLEMENTARY INFORMATION: The Community Disaster Loan (CDL) Program is authorized by section 417 of the Disaster Relief Act of 1974 (Pub. L. 93-288), as amended by the Robert T. Stafford Disaster Relief and Emergency Act of 1988 (Pub. L. 100-707), and implemented by FEMA regulation 44 CFR, subpart K. Community Disaster Loans, section 206.366. The CDL Program offers loans to local governments that have suffered a substantial loss of tax or other revenues as a result of a major disaster or emergency and demonstrates a need for Federal financial assistance in order to perform their governmental functions. The loan must be justified on the basis of need and be based on the actual and projected expenses, as a result of the disaster, for the fiscal year in which the disaster occurred and the three succeeding fiscal years.

Collection of Information

Title: Application for Community Disaster Loan Cancellation.

Type of Information Collection: Extension of a currently approved collection.

OMB Number: 1660-0082.

Form Numbers: FEMA Form 90-5.

Abstract: Local governments may submit an Application for Loan Cancellation through the Governor's Authorized Representative to the FEMA Regional Director prior to the expiration date of the loan. FEMA has the authority to cancel repayment of all or part of a Community Disaster Loan to the extent that a determination is made that revenues of the local government during the three fiscal years following the disaster are insufficient to meet the operating budget of that local government because of disaster-related revenue losses and additional unreimbursed disaster-related municipal operating expenses. Operating budget means actual revenues and expenditures of the local government as published in the official financial statements of the local government.

Affected Public: State, local or tribal governments.

Estimated Total Annual Burden Hours: 1.

Number of Respondents: 1.

Frequency of Response: On occasion.

Hour Burden Per Response: 1 hour.

Annual Burden Hours
Project/Activity (Survey, Form(s), Focus Group, Worksheet, etc.) | Number of respondents | Frequency of responses | Burden hours per respondent | Annual responses | Total annual burden hours
| (A) | (B) | (C) | (A × B) | (A × B × C)
FF-90-5 | 1 | 1 | 1 | 1 | 1
Total | 1 | 1 | 1 | 1 | 1

Estimated Cost: $15.00 per hour times 1 burden hour equals $15.00.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be submitted on or before June 30, 2006.

ADDRESSES: Interested persons should submit written comments to Chief, Records Management Section, Information Resources Management Branch, Information Technology Services Division, Federal Emergency Management Agency, 500 C Street, SW., Room 316, Washington, DC 20472.

FOR FURTHER INFORMATION CONTACT: Contact Mr. Gerald Connelly, (202) 646-3638 for additional information regarding this information collection. . You may contact the Records Management Branch for copies of the proposed collection of information at facsimile number (202) 646-3347 or e-mail address: FEMAInformation-Collections@dhs.gov.

Dated: April 7, 2006.
Deborah Moradi,
Acting Chief, Information Resources Management Branch, Information Technology Services Division.

[FR Doc. E6-6499 Filed 4-28-06; 8:45 am]

BILLING CODE 9110-11-P